DEPARTMENT OF THE INTERIOR

National Park Service

[NPS-WASO-NAGPRA-17069; PPWOCRADN0-PCU00RP14.R50000]

Notice of Inventory Completion: San Francisco State University NAGPRA Program, San Francisco, CA

AGENCY: National Park Service, Interior.

ACTION: Notice.

SUMMARY: The San Francisco State University NAGPRA Program has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the San Francisco State University NAGPRA Program. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the San Francisco State University NAGPRA Program at the address in this notice by December 17, 2014.

ADDRESSES: Jeffrey Boland Fentress, San Francisco State University NAGPRA Program, c/o Department of Anthropology, San Francisco State University, 1600 Holloway Avenue, San Francisco, CA 94132, telephone (415) 338-3075, email fentress@sfsu.edu.

SUPPLEMENTARY INFORMATION: Notice is here given in accordance with the Native American Graves Protection and Repatriation Act (NAGPRA), 25 U.S.C. 3003, of the completion of an inventory of human remains and associated funerary objects under the control of the San Francisco State University NAGPRA Program, San Francisco, CA. The human remains and associated funerary objects were removed from site Ca-Sha-169, in Shasta County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the San Francisco State University NAGPRA Program professional staff in consultation with representatives of Redding Rancheria, California, and the Pit River Tribe, California (includes XL Ranch, Big Bend, Likely, Lookout, Montgomery Creek and Roaring Creek Rancherias).

History and Description of the Remains

In 1960, human remains representing, at minimum, eight individuals were removed from site Ca-Sha-169 in Redding, CA, by San Francisco State University personnel in conjunction with construction of the Wintu Pumping Plant as part of the Whiskeytown Reservoir project. Site materials from the Whiskeytown Reservoir project were curated at San Francisco State University after excavation and surface collection. The 270 individual and 1 lot of associated funerary objects are 9 obsidian projectile points and tools, 1 chert tool, 1 basalt tool, 5 bone tools, 2 ground stone tools, 230 olivella beads, 4 haliotis pendants, 13 glycymeris beads, 1 bone bead, 1 lot of traded beads, 1 possible charm stone, 1 mussel shell, and 2 pieces of red ochre.

Ca-Sha-169 had archeological assemblages consistent with the Shasta Complex which is considered the archeological representation of the ethnographic Wintu, with a time-depth of circa A.D. 1050. Oral history evidence presented during consultation indicates that the Redding, CA area has been continuously occupied by the Wintu since the contact period and that there is a cultural affiliation between the Redding Rancheria, California and the ancestral Wintu people.

Determinations Made by the San Francisco State University NAGPRA Program

Officials of the San Francisco State University NAGPRA Program have determined that:

• Pursuant to 25 U.S.C. 3001(9), the human remains described in this notice represent the physical remains of eight individuals of Native American ancestry.

• Pursuant to 25 U.S.C. 3001(3)(A), the 270 individual and 1 lot of objects described in this notice are reasonably believed to have been placed with or near individual human remains at the time of death or later as part of the death rite or ceremony.

• Pursuant to 25 U.S.C. 3001(2), there is a relationship of shared group identity that can be reasonably traced between the Native American human remains and associated funerary objects and the Redding Rancheria, California.

Additional Requestors and Disposition

Lineal descendants or representatives of any Indian tribe or Native Hawaiian organization not identified in this notice that wish to request transfer of control of these human remains and associated funerary objects should submit a written request with information in support of the request to Jeffrey Boland Fentress, San Francisco State University NAGPRA Program, c/o Department of Anthropology, San Francisco State University, 1600 Holloway Avenue, San Francisco, CA 94132, telephone (415) 338-3075, email fentress@sfsu.edu, by December 17, 2014. After that date, if no additional requestors have come forward, transfer of control of the human remains and associated funerary objects to the Redding Rancheria, California, may proceed.

The San Francisco State University NAGPRA Program is responsible for notifying the Redding Rancheria, California, and the Pit River Tribe, California (includes XL Ranch, Big Bend, Likely, Lookout, Montgomery Creek and Roaring Creek Rancherias) that this notice has been published.

Dated: October 29, 2014.
Melanie O'Brien,
Acting Manager, National NAGPRA Program.

[FR Doc. 2014-27155 Filed 11-14-14; 8:45 am]

BILLING CODE 4312-50-P